DEPARTMENT OF ENERGY

Federal Energy Regulatory Commission

[Docket Nos. ER97-1523-071, et al.]

Central Hudson Gas & Electric Corporation, et al.; Electric Rate and Corporate Filings

November 7, 2002.

The following filings have been made with the Commission. The filings are listed in ascending order within each docket classification.

1. Central Hudson Gas & Electric, Consolidated Edison Company of New York, Inc., Long Island Lighting Company, New York State Electric and Gas Corporation, Niagara Mohawk Power Corporation, Orange and Rockland Utilities, Inc., Rochester Gas and Electric Corporation, New York Power Pool, New York Independent System Operator, Inc.

[Docket Nos. ER97-1523-071, OA97-470-066, and ER97-4234-064]

Take notice that on October 30, 2002, the New York Independent System Operator, Inc. (NYISO) filed an analysis of its current method of addressing storm watch conditions and of alternative options for cost recovery.

The NYISO has served a copy of this filing on each party designated on the official service list in Docket Nos. ER97-1523-003, -004, -005, -006, -052, -061, OA97-470-004, -005, -006, ER97-4234-002, -003, -004 and EC99-31-001 in accordance with the requirements of Rule 2010 of the Commission's Rules of Practice and Procedure, 18 CFR 2010 (2002).

Comment Date: November 20, 2002.

2. Midwest Independent Transmission System Operator, Inc.

[Docket No. ER02-1420-006]

Take notice that on November 1, 2002, the Midwest Independent Transmission System Operator, Inc. (Midwest ISO) submitted a First Revised, Volume No. 1 Resulting Company Tariff in compliance with the Commission's Order issued on May 31, 2002 in Midwest Independent Transmission System Operator, Inc., Docket No. ER02-1420-000, 99 FERC ¶ 61,250 (2002). In addition, the Midwest ISO also submitted the Second Revised Resulting Company Agreement in compliance with the Commission's Order issued on October 11, 2002 in Midwest Independent Transmission System Operator, Inc., Docket No. ER02-1420-001, 101 FERC ¶ 61,044 (2002).

The Midwest ISO has requested waiver of the requirements set forth in 18 CFR 385.2010. The Midwest ISO has electronically served a copy of this filing upon all Midwest ISO Members, Member representatives of Transmission Owners and Non-Transmission Owners, the Midwest ISO Advisory Committee participants, Policy Subcommittee participants, as well as all state commissions within the region. In addition, the filing has been electronically posted on the Midwest ISO's Web site at www.midwestiso.org under the heading “Filings to FERC” for other interested parties in this matter. The Midwest ISO will provide hard copies to any interested parties upon request.

Comment Date: November 22, 2002.

3. Williams Energy Marketing & Trading Company

[Docket Nos. ER03-132-000]

Take notice that on November 1, 2002, Williams Energy Marketing & Trading Company (Williams) tendered for filing pursuant to Section 205 of the Federal Power Act (FPA), 16 U.S.C. 824d, and part 35 of the Commission's Regulations, 18 CFR 35, revised pages to the Reliability Must-Run Service Agreements (RMR Agreements) between Williams and the California Independent System Operator Corporation (ISO) for certain RMR units located at the Alamitos and Huntington Beach Generating Stations.

The purpose of the filing is to update Williams' existing RMR Agreements to reflect an extension of the two existing RMR Agreements and certain annual updates to Schedules A, B, C D and J of the RMR Agreements. Copies of the filing were served upon the ISO and Southern California Edison Company.

Comment Date: November 22, 2002.

4. New England Power Pool

[Docket No. ER03-133-000]

Take notice that on November 1, 2002, the New England Power Pool (NEPOOL) Participants Committee submitted (1) the Eighty-Ninth Agreement Amending New England Power Pool Agreement, which changes how NEPOOL Votes are calculated at NEPOOL Technical Committees, and (2) the Ninetieth Agreement Amending New England Power Pool Agreement, which reduces the financial assurance requirement of a Non-Municipal Participant in certain circumstances under the Financial Assurance Policy for NEPOOL Members. A January 1, 2003 effective date was requested for each of these Agreements.

The NEPOOL Participants Committee states that copies of these materials were sent to the NEPOOL Participants, Non-Participant Transmission Customers and the New England state governors and regulatory commissions.

Comment Date: November 22, 2002.

5. New England Power Pool

[Docket No. ER03-134-000]

Take notice that on November 1, 2002, the New England Power Pool (NEPOOL) Participants Committee filed for acceptance materials to permit NEPOOL to expand its membership to include Citadel Energy Products LLC (Citadel), and to terminate the memberships of Enron Energy Services, Inc. (EESI). The Participants Committee requests a November 1, 2002 effective date for commencement of participation in NEPOOL by Citadel and for the termination of EESI.

The NEPOOL Participants Committee states that copies of these materials were sentthe New England state governors and regulatory commissions and the Participants in NEPOOL.

Comment Date: November 22, 2002.

6. Sierra Pacific Power Company

[Docket No. ER03-137-000]

Take notice that on November 1, 2002, Sierra Pacific Power Company (Sierra) filed a revision to the General Transfer Agreement (GTA) between Sierra and Bonneville Power Administration (BPA).

Sierra states that the revision would increase the total monthly facilities charge from $130,755 to $133,289 to reflect a change in the percentage of initial capital investment used to calculate the Estimated O&M Charge. Sierra requests that the increased charge be made effective at 2400 hours on November 30, 2002.

Copies of this filing were served on the Public Utilities Commission of Nevada, the Public Utilities Commission of California, the Nevada Bureau of Consumer Protection and Bonneville Power Administration.

Comment Date: November 22, 2002.

7. PacifiCorp

[Docket No. ER03-138-000]

Take notice that on November 1, 2002 PacifiCorp, tendered for filing in accordance with 18 CFR 35 of the Commission's Rules and Regulations, Notice of Cancellation of Service Agreement No. 63 under PacifiCorp's FERC Electric Tariff, Volume No. 12 for service between Hinson Power Company and PacifiCorp.

Copies of this filing were supplied to Hinson Power Company, the Public Utility Commission of Oregon and the Washington Utilities and Transportation Commission.

Comment Date: November 22, 2002.

8. California Power Exchange Corporation

[Docket No. ER03-139-000]

Take notice that on November 1, 2002, the California Power Exchange Corporation (CalPX) tendered for filing an amendment to its Rate Schedule FERC No. 1. CalPX files this amendment pursuant to the Commission's August 8, 2002 order in Docket No. ER02-2234-000 (100 FERC ¶ 61,178), which required CalPX to make a new rate filing every six months to recover current expenses. The amendment therefore covers expenses projected for the period January 1 through June 30, 2003, and CalPX requests an effective date of January 1, 2003.

CalPX states that it has served copies of the filing on its participants, on the California ISO, and on the California Public Utilities Commission.

Comment Date: November 22, 2002.

9. Concord Electric Company, Exeter & Hampton Electric Company, Unitil Energy Systems, Inc.

[Docket No. ER03-140-000]

Take notice that on November 1, 2002, Concord Electric Company (CECo), Exeter & Hampton Electric Company (E&H), and Unitil Energy Systems, Inc. (UES), filed with the Federal Energy Regulatory Commission, pursuant to Section 205 of the Federal Power Act and 18 CFR 35.13, the amended Open Access Transmission Tariffs (OATT) of CECo and E&H. The Companies request an effective date of December 1, 2002, for the changes to the OATTs. The Companies also requested approval for the reclassification of transmission facilities as distribution facilities.

The Companies have requested a waiver of the Commission's regulations to permit the changes to become effective as of December 1, 2002.

Comment Date: November 22, 2002.

10. Public Service Electric and Gas Company

[Docket No. ER03-141-000]

Take notice that on November 1, 2002, Public Service Electric and Gas Company (PSE&G) submitted for filing a revised Interconnection Agreement, reflecting revisions to an existing Interconnection Agreement dated August 2000 between PSE&G and the Joint Owners of the Salem Generating Station and Switchyard. Copies of this filing were served on the Joint Owners and on PJM Interconnection, L.L.C.

Comment Date: November 22, 2002.

11. Southern California Edison Company

[Docket No.ER03-142-000]

Take notice, that on November 1, 2002, Southern California Edison Company (SCE) tendered for filing a revision to its Transmission Owner Tariff (TO Tariff), FERC Electric Tariff, Substitute First Revised Original Volume No. 6, to reflect a change to SCE's Reliability Services Rates, and revisions to certain Existing Transmission Contracts (ETC) to provide for the assessment of a charge for Reliability Services to SCE's ETC customers with loads in SCE's historic control area.

Copies of this filing were served upon the Public Utilities Commission of the State of California, the California Independent System Operator, the California Electricity Oversight Board, Pacific Gas and Electric Company, San Diego Gas & Electric Company, and the wholesale customers with loads in SCE's historic control area.

Comment Date: November 22, 2002.

12. Public Service Company of New Hampshire, New Hampton Village Precinct

[Docket No. ER03-143-000]

Take Notice that Public Service Company of New Hampshire, on November 1, 2002, tendered for filing a revised rate for delivery service provided to the New Hampton (New Hampshire) Village Precinct under its Interconnection and Delivery Service Agreement, Original Service Agreement No. 25 under FERC Electric Tariff, First Revised Volume No. 1. This revision represents a decrease from the current rate of $1.55 per Kva/month to $0.98 per Kva/month for all bills rendered on or after January 1, 2003.

Copies of this filing were served upon the Office of the Attorney General for the State of New Hampshire, and the Executive Director and Secretary of the New Hampshire Public Utilities Commission and the State of New Hampshire Office of Consumer Advocate.

Comment Date: November 22, 2002.

13. Public Service Company of New Hampshire Town of Ashland, Electric Light Dept.

[Docket No. ER03-144-000]

Take Notice that Public Service Company of New Hampshire, on November 1, 2002, tendered for filing a revised rate for delivery service provided to the Town of Ashland (New Hampshire), Electric Light Department under its Interconnection and Delivery Service Agreement, FERC Original Service Agreement No. 24 under FERC Electric Tariff, First Revised Volume No.1. This revision represents a decrease from the current rate of $1.55 per Kva/month to $0.98 per Kva/month for all bills rendered on or after January 1, 2003.

Copies of this filing were served upon the Office of the Attorney General for the State of New Hampshire, and the Executive Director and Secretary of the New Hampshire Public Utilities Commission and the State of New Hampshire Office of Consumer Advocate.

Comment Date: November 22, 2002.

14. Public Service Company of New Hampshire, New Hampton Village Precinct

[Docket No. ER03-145-000]

Take Notice that Public Service Company of New Hampshire, on November 1, 2002, tendered for filing a revised rate for delivery service provide to the New Hampton (New Hampshire) Village Precinct under its Interconnection and Delivery Service Agreement, FERC Original Service Agreement No. 25. This revision represents a decrease from the current rate of $1.55 per Kva/month to $0.98 per Kva/month for all bills rendered on or after January 1, 2003.

Copies of this filing were served upon the Office of the Attorney General for the State of New Hampshire, and the Executive Director and Secretary of the New Hampshire Public Utilities Commission and the State of New Hampshire Office of Consumer Advocate.

Comment Date: November 22, 2002.

15. Portland General Electric Company

[Docket No. ER03-146-000]

Take notice that on November 1, 2002, Portland General Electric Company (PGE) filed with the Federal Energy Regulatory Commission a proposed revision to PGE's Energy Imbalance Service tariff sheets of its Open Access Transmission Tariff.

PGE requests that the Commission make the amended tariff sheets effective as of January 1, 2003.

Comment Date: November 22, 2002.

16. ISO New England Inc.

[Docket No. ER03-147-000]

Take notice that on November 1, 2002, ISO New England Inc. (ISO) made a filing under Section 205 of the Federal Power Act of revised tariff sheets for recovery of its administrative costs for 2003. The ISO requests that these sheets be allowed to go into effect on January 1, 2003.

Copies of the transmittal letter were served upon all Participants in the New England Power Pool (“NEPOOL”) and all non-Participant entities that are customers under the NEPOOL Open Access Transmission Tariff, as well as on the governors and utility regulatory agencies of the six New England States, and NECPUC. Participants were also served with the entire filing electronically. The entire filing is posted on the ISO's Web site www.iso-ne.com.

Comment Date: November 22, 2002.

17. ISO New England Inc.

[Docket No. ER03-148-000]

Take notice that on November 1, 2002, ISO New England Inc. (ISO) made a filing under Section 205 of the Federal Power Act of changes to its Capital Funding Tariff. The ISO requests that the changes to the Capital Funding Tariff be allowed to go into effect on January 1, 2003.

Copies of the transmittal letter were served upon all Participants in the New England Power Pool (“NEPOOL”), as well as on the governors and utility regulatory agencies of the six New England States, and NECPUC. Participants were also served with the entire filing electronically. The entire filing is posted on the ISO's Web site www.iso-ne.com.

Comment Date: November 22, 2002.

18. Duke Energy Corporation

[Docket No.ER03-149-000]

Take notice that on November 1, 2002, Duke Energy Corporation (Duke) tendered for filing the Sixth Amendment to the Interconnection Agreement between Duke and North Carolina Municipal Power Agency Number 1. Duke requests an effective date of January 1, 2003 for the Sixth Amendment.

Comment Date: November 22, 2002.

19. Commonwealth Edison Company

[Docket No. ER03-150-000]

Take notice that on November 1, 2002, Commonwealth Edison Company (ComEd) submitted for filing four unexecuted Service Agreements entered into between ComEd and NRG Power Marketing Inc. under ComEd's Open Access Transmission Tariff (OATT). ComEd requests an effective date of January 1, 2003 for all of the Service Agreements. Copies of the filing were served upon NRG Power Marketing Inc. and the Illinois Commerce Commission.

Comment Date: November 22, 2002.

20. New York Independent System Operator, Inc.

[Docket No. ER03-151-000]

Take notice that on November 1, 2002, the New York Independent System Operator, Inc. (NYISO) filed a revision to its Market Administration and Control Area Services Tariff (Services Tariff) to extend the effective date of the Emergency Demand Response Program.

The NYISO has served a copy of this filing to all parties that have executed Service Agreements under the NYISO's Open-Access Transmission Tariff or Services Tariff, the New York State Public Service Commission and to the electric utility regulatory agencies in New Jersey and Pennsylvania.

Comment Date: November 22, 2002.

21. Wisconsin Public Service Corporation

[Docket No. ER03-152-000]

Take notice that Wisconsin Public Service Corporation (WPSC) and Upper Peninsula Power Company (UPPCO), on November 1, 2002, each tendered for filing a power purchase agreement (PPA) with each other, pursuant to Section 205 of the Federal Power Act (FPA). WPSC and UPPCO each requests that the Commission accept the PPA to become effective on January 1, 2003, sixty days after the date of this filing.

Copies of the filing were served upon the Public Service Commission of Wisconsin and the Michigan Public Service Commission.

Comment Date: November 22, 2002.

22. Consumers Energy Company

[Docket No. ER03-153-000]

Take notice that on November 1, 2002, Consumers Energy Company (Consumers) tendered for filing a service agreement for unbundled wholesale power service to Edison Sault Electric Company (Customer) pursuant to Consumers' Cost-Based Power Sales Tariff (Tariff No. 7) accepted for filing in Docket No. ER97-964-000. The service agreement has an effective date of January 1, 2003. The service agreement supercedes the Customer's current sales Rate Schedule (Consumers Rate Schedule FERC No. 85) but retains some terms from the Rate Schedule.

Copies of the filing have been served on the Michigan Public Service Commission and the Customer.

Comment Date: November 22, 2002.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 02-29136 Filed 11-15-02; 8:45 am]

BILLING CODE 6717-01-P